DEPARTMENT OF THE INTERIOR

National Park Service

Final Environmental Impact Statement/General Management Plan, Fort Vancouver National Historic Site, Clark County, Washington; Notice of Approval of Record of Decision

SUMMARY: Pursuant to section 102(2)(C) of the National Environmental Policy Act of 1969 (Pub. L. 91-190, as amended) and the implementing regulations promulgated by the Council on Environmental Quality (40 CFR 1505.2), the Department of the Interior, National Park Service has prepared, and the Regional Director, Pacific West Region has approved, the Record of Decision for the General Management Plan for Fort Vancouver National Historic Site, in southwestern Washington. The formal no-action period was officially initiated January 22, 2004, with the U.S. Environmental Protection Agency's Federal Register notification of the filing of the Final Environmental Impact Statement (EIS).

Decision: As soon as practicable the NPS will begin to implement the General Management Plan described and analyzed as the Proposed Action (Alternative B) contained in the abbreviated Final EIS. The selected plan features a deliberate, long-term strategy to protect historic, cultural, and natural resources, while providing for improved visitor experience and increased educational opportunities. Various programs and projects to be accomplished in partnership with others are included. This plan was also deemed to be the “environmentally preferred” alternative.

This course of action and two alternatives were identified and analyzed in the Final EIS, and previously in the Draft EIS (the latter was distributed in November 2002). The full spectrum of foreseeable environmental consequences were assessed, and appropriate mitigation measures identified, for each alternative. Beginning with early scoping, through the preparation of the Draft and Final EIS, numerous public meetings were conducted and newsletter updates were regularly provided. Approximately 118 written comments (and about 185 oral comments at public meetings) responding to the Draft EIS were received and duly considered. As no substantive or adverse comments were received, an abbreviated Final EIS was prepared (and released for a 30-day no-action period which commenced on January 22, 2004). Key consultations which aided in preparing the Draft and Final EIS involved (but were not limited to) the U.S. Fish and Wildlife Service, USDA Wildlife Service, Oregon and Washington State Historic Preservation Offices, Washington State Dept. of Transportation, three native American Tribes, cities of Vancouver and Oregon City, and Clark County.

Copies: Interested parties desiring to review the Record of Decision may obtain a complete copy by contacting the Superintendent, Fort Vancouver National Historic Site, 612 E. Reserve St., Vancouver, WA 98661; or via telephone request at (360) 696-7655.

Dated: June 2, 2004.
Patricia L. Neubacher,
Acting Regional Director, Pacific West Region.

[FR Doc. 04-17587 Filed 8-2-04; 8:45 am]

BILLING CODE 4312-52-P